ENVIRONMENTAL PROTECTION AGENCY

[FRL-7539-2]

Clean Water Act Section 303(d): Availability of 5 Total Maximum Daily Loads (TMDLs)

AGENCY: Environmental Protection Agency (EPA).

ACTION: Notice of availability.

SUMMARY: This notice announces the availability for comment of the administrative record file for 5 TMDLs and the calculations for these TMDLs prepared by EPA Region 6 for waters listed in the state of Arkansas under section 303(d) of the Clean Water Act (CWA). These TMDLs were completed in response to the lawsuit styled Sierra Club, et al. v. Browner, et al., No. LR-C-99-114.

DATES: Comments must be submitted in writing to EPA on or before September 3, 2003.

ADDRESSES: Comments on the 5 TMDLs should be sent to Ellen Caldwell, Environmental Protection Specialist, Water Quality Protection Division, U.S. Environmental Protection Agency Region 6, 1445 Ross Ave., Dallas, TX 75202-2733, facsimile (214) 665-6490, or e-mail: caldwell.ellen@epa.gov. For further information, contact Ellen Caldwell at (214) 665-7513. Documents from the administrative record file for these TMDLs are available for public inspection at this address as well. Documents from the administrative record file may be viewed at http://www.epa.gov/region6/water/artmdl.htm, or obtained by calling or writing Ms. Caldwell at the above address. Please contact Ms. Caldwell to schedule an inspection.

FOR FURTHER INFORMATION CONTACT: Ellen Caldwell at (214) 665-7513.

SUPPLEMENTARY INFORMATION: In 1999, five Arkansas environmental groups, the Sierra Club, Federation of Fly Fishers, Crooked Creek Coalition, Arkansas Fly Fishers, and Save our Streams (plaintiffs), filed a lawsuit in Federal Court against the United States Environmental Protection Agency (EPA), styled Sierra Club, et al. v. Browner, et al., No. LR-C-99-114. Among other claims, plaintiffs alleged that EPA failed to establish Arkansas TMDLs in a timely manner. EPA proposes these TMDLs pursuant to a consent decree entered in this lawsuit.

EPA Seeks Comment on 5 TMDLs

By this notice EPA is seeking comment on the following 5 TMDLs for waters located within the state of Arkansas:

Segment-reach | Waterbody name | Pollutant
08040201-706-16 | Flat Creek | Chloride.
08040201-706-16 | Flat Creek | Sulfate.
08040201-706-16 | Flat Creek | TDS.
08040201-806-8 | Salt Creek | Chloride.
08040201-806-8 | Salt Creek | TDS.

EPA requests that the public provide to EPA any water quality related data and information that may be relevant to the calculations for these 5 TMDLs. EPA will review all data and information submitted during the public comment period and revise the TMDLs and determinations where appropriate. EPA will then forward the TMDLs to the Arkansas Department of Environmental Quality (ADEQ). The ADEQ will incorporate the TMDLs into its current water quality management plan. The EPA also will revise the Arkansas 303(d) list as appropriate.

Dated: July 24, 2003.
Miguel I. Flores,
Director, Water Quality Protection Division, Region 6.

[FR Doc. 03-19741 Filed 8-1-03; 8:45 am]

BILLING CODE 6560-50-P